Memorandum of December 8, 2017

Delaying Submission of the Small Business Administration Report Under the Trade Facilitation and Trade Enforcement Act of 2015

Memorandum for the Chief Counsel for Advocacy of the Small Business Administration

The Trade Facilitation and Trade Enforcement Act of 2015 (TFTEA) (Public Law 114-125) requires you to submit to the Congress a report on the economic impacts of a covered trade agreement on small businesses not less than 180 days after you convene an Interagency Working Group for the relevant trade agreement. The report for the renegotiation of the North American Free Trade Agreement (NAFTA) will soon be due. To ensure that the negotiations are not disrupted, however, by the authority vested in me as President by the Constitution and the laws of the United States of America, including section 502 of the TFTEA, I require you to delay the submission of the report until after the negotiations are concluded, but not later than 30 days after a renegotiated agreement is signed, provided that the delay allows you to submit the report to the Congress not later than 45 days before the Senate or the House of Representatives acts to approve or disapprove the trade agreement.

You are authorized and directed to publish this memorandum in the Federal Register.

THE WHITE HOUSE,

Washington, December 8, 2017

[FR Doc. 2017-27037

Filed 12-12-17; 11:15 am]

Billing code 8205-01-P